DEPARTMENT OF LABOR

Mine Safety and Health Administration

Petition for Modification of Application of Existing Mandatory Safety Standards

AGENCY: Mine Safety and Health Administration, Labor.

ACTION: Notice.

SUMMARY: This notice is a summary of a petition for modification submitted to the Mine Safety and Health Administration (MSHA) by the party listed below.

DATES: All comments on the petition must be received by MSHA's Office of Standards, Regulations, and Variances on or before April 21, 2022.

ADDRESSES: You may submit comments identified by Docket No. MSHA-2022-0013 by any of the following methods:

1. Federal eRulemaking Portal: https://www.regulations.gov. Follow the instructions for submitting comments for MSHA-2022-0013.

2. Fax: 202-693-9441.

3. Email: petitioncomments@dol.gov.

4. Regular Mail or Hand Delivery: MSHA, Office of Standards, Regulations, and Variances, 201 12th Street South, Suite 4E401, Arlington, Virginia 22202-5452, Attention: S. Aromie Noe, Acting Director, Office of Standards, Regulations, and Variances. Persons delivering documents are required to check in at the receptionist's desk in Suite 4E401. Individuals may inspect copies of the petition and comments during normal business hours at the address listed above. Before visiting MSHA in person, call 202-693-9455 to make an appointment, in keeping with the Department of Labor's COVID-19 policy. Special health precautions may be required.

FOR FURTHER INFORMATION CONTACT: S. Aromie Noe, Office of Standards, Regulations, and Variances at 202-693-9440 (voice), Petitionsformodification@dol.gov (email), or 202-693-9441 (fax). [These are not toll-free numbers.]

SUPPLEMENTARY INFORMATION: Section 101(c) of the Federal Mine Safety and Health Act of 1977 and title 30 of the Code of Federal Regulations (CFR) part 44 govern the application, processing, and disposition of petitions for modification.

I. Background

Section 101(c) of the Federal Mine Safety and Health Act of 1977 (Mine Act) allows the mine operator or representative of miners to file a petition to modify the application of any mandatory safety standard to a coal or other mine if the Secretary of Labor determines that:

1. An alternative method of achieving the result of such standard exists which will at all times guarantee no less than the same measure of protection afforded the miners of such mine by such standard; or

2. The application of such standard to such mine will result in a diminution of safety to the miners in such mine.

In addition, §§ 44.10 and 44.11 of 30 CFR establish the requirements for filing petitions for modification.

II. Petition for Modification

Docket Number: M-2022-004-C.

Petitioner: Century Mining, LLC, 7004 Buckhannon Road, Volga, West Virginia 26238.

Mine: Longview Mine, MSHA ID No. 46-09447, located in Barbour County, West Virginia.

Regulation Affected: 30 CFR 18.35(a)(5)(i), Portable (trailing) cables and cords.

Modification Request: The petitioner seeks modification of the existing standard to permit 995-volt, 575-volt, and 480-volt trailing cable lengths up to 1,000 feet providing power to section equipment including continuous mining machine, roof bolters, shuttle cars, and auxiliary fans during: Initial bottom development; mains, sub-mains, and three-entry sections development; bleeder and recovery entries development; and mining around gas wells.

The petitioner states that:

(a) The mine is currently under construction.

(b) The mine will utilize the room and pillar and longwall mining methods to extract coal and will employ approximately 375 coal miners.

(c) A modification to the existing standard would enhance the safety of the miners by minimizing the number of power center moves, thereby reducing exposure to electrical hazards associated with cable handling.

(d) Use of 1,000-foot cables would reduce the chance of a fire on a working section by allowing power centers to be farther from the working face.

The petitioner proposes the following alternative method:

(a) The maximum length of the 995-volt, 575-volt, and 480-volt trailing cables will be 1,000 feet.

(b) The section equipment's trailing cables will not be smaller than No. 6 American Wire Gauge (AWG). At no time will a trailing cable be smaller than specified in the approval documentation for the machine.

(c) All circuit breakers used to protect trailing cables exceeding the maximum length specified in 30 CFR 18.35(a)(5)(i) will have instantaneous trip units properly calibrated and adjusted to trip at no more than the smallest of the following values:

(1) The setting specified in 30 CFR 75.601-1;

(2) the setting specified in the approval documentation for the machine; or

(3) 70 percent of the minimum phase-to-phase short-circuit current available at the end of the trailing cable.

(d) The calibrated trip setting of the circuit breakers will be sealed, locked, or protected so that the setting cannot be changed.

(e) The circuit breakers will have permanent, legible labels indicating the circuit, cable size, maximum cable length, and the maximum instantaneous trip unit setting. If the trailing cable sizes are intermixed at a section power center, the plugs will be constructed or designed, for example, keyed or sized, to permit only the proper type and length of cable to be plugged into the receptacle with the proper settings.

(f) Replacement instantaneous trip units used to protect trailing cables affected by this petition will be calibrated and set in accordance with alternative method item (c). This setting will be sealed, locked, or protected.

(g) All components providing short-circuit protection will have a sufficient interruption rating in accordance with the maximum calculated fault currents available.

(h) Any trailing cable not in safe operating condition will be removed from service immediately and repaired or replaced.

(i) If the mining methods or operating procedures cause or contribute to trailing cable damage, the cable will be removed from service immediately and repaired or replaced. Additional precautions will be taken to ensure that, in the future, the cable is protected and maintained in safe operating condition.

(j) Each trailing cable splice or repair will be made in a workmanlike manner and in accordance with the instructions of the manufacturer of the splice or repair kit. The outer jacket of each splice will be vulcanized with flame resistant material or made with material that has been approved by MSHA as flame resistant. Splices will comply with the requirements of 30 CFR 75.603 and 75.604.

(k) At the beginning of each production shift, persons designated by the mine operator will visually examine trailing cables to ensure that they are in safe operating condition. The instantaneous trip unit settings of the specially calibrated circuit breakers will also be visually examined to ensure that the seals or locks have not been removed and that they are set in accordance with alternative method item (c).

(l) Permanent warning labels will be installed and maintained on the cover(s) of the power center or distribution box identifying the location of each sealed short-circuit protection device. The labels will warn miners not to change or alter the sealed short-circuit settings.

(m) This petition will apply to the initial bottom development of the mine, working sections that mine around gas wells, and working sections developing mains, submains, three entry panels, and bleeder and recovery entries.

(n) This petition will not be implemented until miners designated to examine the integrity of the seals or locks, to verify the short-circuit settings, and to examine trailing cables for defects and damage have received training.

(o) Within 60 days after the Proposed Decision and Order (PDO) becomes final, the petitioner will submit proposed revisions for its approved part 48 training plan to the District Manager. The proposed revisions will include initial and refresher training regarding compliance with the terms and conditions of the PDO.

The petitioner asserts that the alternative method proposed will at all times guarantee no less than the same measure of protection afforded the miners under the mandatory standard.

Song-ae Aromie Noe,
Acting Director, Office of Standards, Regulations, and Variances.

[FR Doc. 2022-05995 Filed 3-21-22; 8:45 am]

BILLING CODE 4520-43-P